DEPARTMENT OF COMMERCE

International Trade Administration

[A-428-830]

Notice of Rescission, in Part, of Antidumping Duty Administrative Review: Stainless Steel Bar from Germany.

AGENCY: Import Administration, International Trade Administration, Department of Commerce.

EFFECTIVE DATE: June 28, 2005.

FOR FURTHER INFORMATION CONTACT: Audrey Twyman or Andrew Smith, AD/CVD Operations, Office 1, Import Administration, U.S. Department of Commerce, 14th Street and Constitution Avenue, NW, Washington, DC 20230; telephone (202) 482-3534 and 202-482-1276, respectively.

SUPPLEMENTARY INFORMATION:

Background

The Department of Commerce (the “Department”) received timely requests for an administrative review of the antidumping duty order on stainless steel bar from Germany with respect to Stahlwerk Ergste Westig GmbH and Ergste Westig South Carolina (collectively “SEW”), and BGH Edelstahl Freital GmbH, BGH Edelstahl Siegen GmbH, BGH Edelstahl Lippendorf GmbH, and BGH Edelstahl Lugau GmbH (collectively “BGH”). On April 22, 2005, the Department published the initiation of an administrative review of SEW and BGH, covering the period March 1, 2004, through February 28, 2005. See Initiation of Antidumping and Countervailing Duty Administrative Reviews, 70 FR 20862 (April 22, 2005). On June 14, 2005, SEW timely withdrew its request for an administrative review. SEW's request was the only request for an administrative review of SEW's U.S. sales.

Rescission, in Part, of the Administrative Review

Pursuant to the Department's regulations, the Department will rescind an administrative review “if a party that requested the review withdraws the request within 90 days of the date of publication of notice of initiation of the requested review.” 19 CFR 351.213(d)(1). Since SEW submitted a timely withdrawal of its request for review, and since this was the only request for a review of SEW, the Department is rescinding its antidumping administrative review of SEW in accordance with 19 CFR 351.213(d)(1). Based on this rescission, the administrative review of the antidumping duty order on stainless steel bar from Germany covering the period March 1, 2004, through February 28, 2005, now covers only BGH.

Assessment

The Department will instruct U.S. Customs and Border Protection (“CBP”) to assess antidumping duties on all appropriate entries. Antidumping duties for this rescinded company shall be assessed at rates equal to the cash deposit of estimated antidumping duties required at the time of entry, or withdrawal from warehouse, for consumption, in accordance with 19 CFR 351.212(c)(1)(i). The Department will issue appropriate assessment instructions directly to CBP within 15 days of publication of this notice.

We are issuing and publishing this determination and notice in accordance with section 777(i) of the Tariff Act of 1930, as amended, and 19 CFR 351.213(d)(4).

Dated: June 22, 2005.
Barbara E. Tillman,
Acting Deputy Assistant Secretary for Import Administration.

[FR Doc. 05-12739 Filed 6-27-05; 8:45 am]

BILLING CODE 3510-DS-S